Title 3—

The President

Executive Order 14309 of June 16, 2025

Implementing the General Terms of the United States of America-United Kingdom Economic Prosperity Deal

By the authority vested in me as President by the Constitution and the laws of the United States of America, including the International Emergency Economic Powers Act (50 U.S.C. 1701 et seq.), the National Emergencies Act (50 U.S.C. 1601 et seq.), section 232 of the Trade Expansion Act of 1962, as amended (19 U.S.C. 1862) (section 232), section 604 of the Trade Act of 1974, as amended (19 U.S.C. 2483), and section 301 of title 3, United States Code, I hereby determine and order:

Section 1. Background. On May 8, 2025, United Kingdom Prime Minister Keir Starmer and I announced the General Terms for the United States of America and the United Kingdom of Great Britain and Northern Ireland Economic Prosperity Deal (General Terms). The General Terms outline a historic trade deal that provides American companies unprecedented access to British markets while bolstering the national security and economy of the United States. The deal includes billions of dollars of increased market access for American exports, especially for beef, ethanol, and certain other American agricultural exports. In addition, the United Kingdom will reduce or eliminate numerous non-tariff barriers that unfairly discriminate against American products, hurt the United States' manufacturing base, and threaten the national security of the United States.

The General Terms provide, among other things, that the United States intends to create an annual quota of 100,000 vehicles for United Kingdom automotive imports at a 10 percent tariff rate. In the General Terms, the United Kingdom also committed to working to meet American requirements on the security of the supply chains of steel and aluminum products intended for export to the United States and on the nature of ownership of relevant production facilities. Provided the United Kingdom meets these requirements, the United States intends to promptly construct a quota at most-favored-nation rates for steel and aluminum articles and certain derivative steel and aluminum articles that are products of the United Kingdom in the context of implementing the General Terms.

Furthermore, in the General Terms, the United States and the United Kingdom committed to negotiate significantly preferential treatment outcomes on pharmaceuticals and pharmaceutical ingredients that are products of the United Kingdom, contingent on the findings of an investigation regarding pharmaceuticals and pharmaceutical ingredients under section 232, and provided that the United Kingdom complies with certain supply chain security standards. Finally, in the General Terms, the United States and the United Kingdom committed to adopt a structured, negotiated approach to addressing United States national security concerns regarding sectors that may be subject to future section 232 investigations. To that end, the United States and the United Kingdom further committed to strengthen aerospace and aircraft manufacturing supply chains by establishing tariff-free bilateral trade in certain aerospace products.

In my judgment, I determine that the following actions are consistent with the national interests of the United States and are necessary and appropriate to deal with the national emergency declared in Executive Order 14257 of April 2, 2025 (Regulating Imports With a Reciprocal Tariff To Rectify Trade Practices That Contribute to Large and Persistent Annual United States Goods Trade Deficits), as amended, and to reduce or eliminate the threats to national security found in Proclamation 9704 of March 8, 2018 (Adjusting Imports of Aluminum Into the United States), as amended; Proclamation 9705 of March 8, 2018 (Adjusting Imports of Steel Into the United States), as amended; and Proclamation 9888 of May 17, 2019 (Adjusting Imports of Automobiles and Automobile Parts Into the United States), as amended.

Sec. 2. Automobiles and Automobile Parts. (a) I hereby establish an annual tariff-rate quota of 100,000 automobiles as classified in heading 8703 of the Harmonized Tariff Schedule of the United States (HTSUS) and as further specified in note 33(b) to subchapter III of chapter 99 of the HTSUS for automobiles that are products of the United Kingdom. Imports of automobiles within the tariff-rate quota that would otherwise be subject to a 25 percent tariff under Proclamation 10908 of March 26, 2025 (Adjusting Imports of Automobiles and Automobile Parts Into the United States), shall instead be subject to a 7.5 percent tariff, in addition to the most-favored-nation rate for automobiles of 2.5 percent, for a combined tariff of 10 percent. Imports of automobiles in excess of the tariff-rate quota shall remain subject to the full duties imposed by Proclamation 10908. The tariff-rate quota shall be adjusted for calendar year 2025 to reflect the General Terms' operative date of May 8, 2025. The quota shall be effective 7 days after the publication of this order in the Federal Register.

(b) Automotive parts specified in note 33(g) to subchapter III of chapter 99 of the HTSUS that would otherwise be subject to a 25 percent tariff under Proclamation 10908 shall instead be subject to a total tariff of 10 percent (including any most-favored-nation tariffs), provided that they are products of the United Kingdom and are for use in automobiles that are products of the United Kingdom. This change shall be effective as of the date of the publication of the Federal Register notice described in subsection (c) of this section.

(c) Within 7 days of the date of publication of this order in the Federal Register, the Secretary of Commerce (Secretary), in consultation with the United States International Trade Commission (ITC) and U.S. Customs and Border Protection (CBP), shall publish a notice in the Federal Register modifying the HTSUS consistent with this section, if necessary.

(d) The Secretary may issue rules, regulations, guidance, and procedures to carry out the provisions of this section.

Sec. 3. Aerospace. (a) With respect to products of the United Kingdom that fall under the World Trade Organization Agreement on Trade in Civil Aircraft, the tariffs imposed through the following Presidential actions and subsequent amendments to those actions shall no longer apply, as of the date of publication of the Federal Register notice described in subsection (b) of this section:

(i) Executive Order 14257, as amended;

(ii) Proclamation 9704, as amended; and

(iii) Proclamation 9705, as amended.

(b) Within 7 days of the date of publication of this order in the Federal Register, the Secretary, in consultation with ITC and CBP, shall publish a notice in the Federal Register modifying the HTSUS consistent with this section, if necessary.

(c) The Secretary may issue rules, regulations, guidance, and procedures to carry out the provisions of this section.

Sec. 4. Aluminum and Steel Articles and Their Derivative Articles. (a) At a future time that the Secretary, in consultation with the United States Trade Representative, deems appropriate, the Secretary shall design and establish a tariff-rate quota for aluminum articles and derivative aluminum articles that are products of the United Kingdom, consistent with the General Terms and the purpose of this order. Imports of aluminum articles or derivative aluminum articles that are products of the United Kingdom in excess of the tariff-rate quota established by the Secretary shall remain subject to the duties set forth in Proclamation 9704, as amended.

(b) At a future time that the Secretary, in consultation with the United States Trade Representative, deems appropriate, the Secretary shall design and establish a tariff-rate quota for steel articles and derivative steel articles that are products of the United Kingdom, consistent with the General Terms and the purpose of this order. Imports of steel articles or derivative steel articles that are products of the United Kingdom in excess of the tariff-rate quota established by the Secretary shall remain subject to the duties set forth in Proclamation 9705, as amended.

(c) In determining when to establish, whether to establish, and the design of a tariff-rate quota for aluminum and steel articles and their derivatives, the Secretary shall act in a manner consistent with the national interests of the United States and the purpose of this order and shall consider factors he deems appropriate, such as actions taken by the United Kingdom to implement the General Terms and any final agreement entered by the United States and the United Kingdom subsequent to the General Terms; the need to deal with the national emergency declared in Executive Order 14257, as amended; and the need to reduce or eliminate the threats to national security found in Proclamation 9704, as amended, and Proclamation 9705, as amended.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Commerce.

THE WHITE HOUSE,

June 16, 2025.

[FR Doc. 2025-11473

Filed 6-20-25; 8:45 am]

Billing code 3510-DT-P